FEDERAL DEPOSIT INSURANCE CORPORATION

Agency Information Collection Activities: Submission for OMB Review; Comment Request (3064-0189)

AGENCY: Federal Deposit Insurance Corporation (FDIC).

ACTION: Notice and request for comment.

SUMMARY: The FDIC, as part of its continuing effort to reduce paperwork and respondent burden, invites the general public and other Federal agencies to take this opportunity to comment on the renewal of an existing information collection, as required by the Paperwork Reduction Act of 1995. On December 15, 2015, (80 FR 77631), the FDIC requested comment for 60 days on a proposal to renew the information collection described below. No comments were received. The FDIC hereby gives notice of its plan to submit to OMB a request to approve the renewal of this collection, and again invites comment on this renewal.

DATES: Comments must be submitted on or before March 31, 2016.

ADDRESSES: Interested parties are invited to submit written comments to the FDIC by any of the following methods:

• http://www.FDIC.gov/regulations/laws/federal/.

• Email: comments@fdic.gov Include OMB control number “3064-0189” in the subject line of the message.

• Mail: Gary A. Kuiper (202.898.3877), Counsel, Room MB-3016, or Manuel E. Cabeza, (202.898.3767), Counsel, Room MB-3105, Federal Deposit Insurance Corporation, 550 17th Street NW., Washington, DC 20429.

• Hand Delivery: Comments may be hand-delivered to the guard station at the rear of the 17th Street Building (located on F Street), on business days between 7:00 a.m. and 5:00 p.m.

All comments should refer to OMB control number “3064-0189.” A copy of the comments may also be submitted to the OMB desk officer for the FDIC: Office of Information and Regulatory Affairs, Office of Management and Budget, New Executive Office Building, Washington, DC 20503.

FOR FURTHER INFORMATION CONTACT: Gary A. Kuiper or Manuel E. Cabeza, at the FDIC address above.

SUPPLEMENTARY INFORMATION: Proposal to renew the following currently-approved collection of information:

1. Title: Annual Stress Test Reporting; Over $50 Billion Templates.

OMB Number: 3064-0189.

Affected Public: Insured state nonmember banks.

Frequency of Response: Annually.

Estimated Number of Respondents: 4.

Estimated Number of Responses: 1.

Estimated Time per Response: 1,114 hours.

Total Annual Burden: 4,456 hours.

General Description: Section 165(i)(2) of the Dodd-Frank Wall Street Reform and Consumer Protection Act (“Dodd-Frank Act”) requires certain financial companies, including state nonmember banks and state savings associations, to conduct annual stress tests and requires the primary financial regulatory agency of those financial companies to issue regulations implementing the stress test requirements. A state nonmember bank or state savings association is a “covered bank” and therefore subject to the stress test requirements if its total consolidated assets are more than $10 billion. Under section 165(i)(2), a covered bank is required to submit to the Board of Governors of the Federal Reserve System (“Board”) and to its primary financial regulatory agency a report at such time, in such form, and containing such information as the primary financial regulatory agency shall require.

The revisions to the DFAST-14A reporting templates consist of clarifying instructions, adding data items, deleting data items, and redefining existing data items. The proposed revisions also include a shift of the as-of date in accordance with modifications to the FDIC's stress testing rule.¹ These revisions also reflect the implementation of the final Basel III regulatory capital rule. On July 9, 2013, the FDIC approved an interim final rule that will revise and replace the FDIC's risk-based and leverage capital requirements to be consistent with agreements reached by the Basel Committee on Banking Supervision in “Basel III: A Global Regulatory Framework for More Resilient Banks and Banking Systems” (Basel III).² The final rule was published in the Federal Register on April 14, 2014 (“Revised Capital Framework”).³ The revisions include implementation of a new definition of regulatory capital, a new common equity tier 1 minimum capital requirement, a higher minimum tier 1 capital requirement, and, for banking organizations subject to the Advanced Approaches capital rules, a supplementary leverage ratio that incorporates a broader set of exposures in the denominator measure. In addition, the rule will amend the methodologies for determining risk weighted assets. All banking organizations that are not subject to the Advanced Approaches Rule were required to comply with the Revised Capital Framework, as of January 1, 2015.

¹ See 79 FR 69365 (November 21, 2014).

² 78 FR 55340 (September 10, 2013).

³ 79 FR 20754 (April 14, 2014).

The proposed changes would (1) increase consistency between the DFAST-14A with the FR Y-14A, CALL Report, FFIEC 101, and FFIEC 102; (2) remove the requirement to calculate tier 1 common capital and the tier 1 common ratio; and (3) shift the as-of dates by one quarter in accordance with the modifications to the stress test rules. Furthermore, the FDIC understands that the Board is currently collecting information for the Summary Schedule via XML technology, and the FDIC would use a similar format to enhance consistency and reduce regulatory burden. Technical details on these forms would be provided separately.

Schedule A (Summary)—A.1.c.1 (General RWA)

This schedule would be removed in accordance with the proposed revisions to eliminate use of the tier 1 common ratio, effective for the 2016 DFAST submission.

Schedule A (Summary)—Revisions to Schedule A.1.c.2 (Standardized RWA)

This schedule would be modified to increase consistency with the FFIEC 102. Specifically, the items of the existing market risk-weighted asset portion would be replaced with the appropriate items from the FFIEC 102.

Schedule A (Summary)—Revisions to Schedule A.1.d (Capital)

The FDIC removed certain items related to tier 1 common capital, effective for the 2016 DFAST submission. Additionally, the FDIC added one item that captures the aggregate non-significant investments in the capital of unconsolidated financial institutions in the form of common stock and breaking out two items related to deferred tax assets into the amount before valuation allowances and the associated valuation allowance. The additional information from these changes would result in two existing items converting to derived items based on the additional information. These changes would be effective for the 2017 DFAST submission.

Schedule A (Summary)—Revisions to Schedule A.2.b (Retail Repurchase)

This schedule would be removed to reduce reporting burden, effective for the 2017 DFAST submission.

Schedule A (Summary)—Deletion of Schedule A.2.c (ASC 310-30)

This schedule would be removed to reduce reporting burden, effective for the 2017 DFAST submission.

Schedule A (Summary)—Revisions to Schedule A.7.c (PPNR Metrics)

In order to fully align the schedule with the stress scenarios, the beta information would be collected according to the scenario instead of the current “normal environment” requirement. The effective date for the PPNR Metrics schedule changes will be the 2017 DFAST submission.

Counterparty Credit Risk Schedule

This schedule would be removed to reduce reporting burden effective for the 2016 DFAST submission. Aggregate counterparty credit risk information will continue to be obtained through the Summary Schedule (Schedule A).

Regulatory Capital Transitions Schedule

The FDIC has modified this schedule by removing projected year six from the projection period.

Regulatory Capital Instruments Schedule

The FDIC has modified this schedule by removing line items corresponding to the general risk-based capital rules.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. All comments will become a matter of public record.

Federal Deposit Insurance Corporation.
Dated at Washington, DC, this 25th day of February, 2016.
Robert E. Feldman,
Executive Secretary.

[FR Doc. 2016-04436 Filed 2-29-16; 8:45 am]

BILLING CODE 6714-01-P